COMMODITY FUTURES TRADING COMMISSION

Global Markets Advisory Committee

AGENCY: Commodity Futures Trading Commission.

ACTION: Notice of meeting.

SUMMARY: The Commodity Futures Trading Commission (CFTC) announces that on March 11, 2021, from 9:00 a.m. to 1:00 p.m. (Eastern Standard Time), the Global Markets Advisory Committee (GMAC) will hold a public meeting via teleconference. At this meeting, the GMAC will continue discussions on the impact of market volatility related to the coronavirus pandemic and recent effects on international central counterparties and the global clearing ecosystem; and hear presentations and provide dialogue on matters related to retail participation in the derivatives markets.

DATES: The meeting will be held on March 11, 2021, from 9:00 a.m. to 1:00 p.m. (Eastern Standard Time). Members of the public who wish to submit written statements in connection with the meeting should submit them by March 18, 2021.

ADDRESSES: The meeting will take place via teleconference. You may submit public comments, identified by “Global Markets Advisory Committee,” via the CFTC's website, http://comments.cftc.gov. If you are unable to submit comments via the CFTC's website, contact Andrée Goldsmith, Designated Federal Officer, via the contact information listed below to discuss alternate means of submitting your comments. Any statements submitted in connection with the committee meeting will be made available to the public, including publication on the CFTC's website, http://www.cftc.gov.

FOR FURTHER INFORMATION CONTACT: Andrée Goldsmith, GMAC Designated Federal Officer, Commodity Futures Trading Commission, Three Lafayette Centre, 1155 21st Street NW, Washington, DC 20581; (202) 418-6624; agoldsmith@cftc.gov.

SUPPLEMENTARY INFORMATION: Members of the public may listen to the meeting by telephone by calling a domestic toll-free telephone or international toll or toll-free number to connect to a live, listen-only audio feed. Call-in participants should be prepared to provide their first name, last name, and affiliation.

Domestic Toll Free: 1-877-951-7311.

International Toll and Toll Free: Will be posted on the CFTC's website, http://www.cftc.gov, on the page for the meeting, under Related Links.

Pass Code/Pin Code: 9530502.

The meeting time and agenda may change to accommodate other GMAC priorities. For time and agenda updates, please visit the GMAC committee's website at: https://www.cftc.gov/About/CFTCCommittees/GlobalMarketsAdvisory/gmac_meetings.html.

After the meeting, a transcript of the meeting will be published through a link on the CFTC's website at: http://www.cftc.gov. All written submissions provided to the CFTC in any form will also be published on the CFTC's website. Persons requiring special accommodations to attend the meeting because of a disability should notify the contact person above.

Authority: 5 U.S.C. App. 2.

Dated: February 16, 2021.
Robert Sidman,
Deputy Secretary of the Commission.

[FR Doc. 2021-03405 Filed 2-18-21; 8:45 am]

BILLING CODE 6351-01-P